DEPARTMENT OF ENERGY

Federal Energy Regulatory Commission

Combined Notice of Filings #1

(J)Take notice that the Commission received the following exempt wholesale generator filings:

Docket Numbers: EG14-71-000.

Applicants: Dominion Solar Gen-Tie, LLC.

Description: Self-Certification of EWG status of Dominion Solar Gen-Tie, LLC.

Filed Date: 7/10/14.

Accession Number: 20140710-5019.

Comments Due: 5 p.m. ET 7/31/14.

Docket Numbers: EG14-72-000.

Applicants: Desert Green Solar Farm LLC.

Description: Notice of Self-Certification of Exempt Wholesale Generator Status of Desert Green Solar Farm LLC.

Filed Date: 7/10/14.

Accession Number: 20140710-5028.

Comments Due: 5 p.m. ET 7/31/14.

Take notice that the Commission received the following electric rate filings:

Docket Numbers: ER14-1713-001.

Applicants: Midcontinent Independent System Operator, Inc.

Description: Midcontinent Independent System Operator, Inc. submits tariff filing per 35: 2014-07-10 Flow Limit (SRBPC) Compliance Filing to be effective 4/12/2014.

Filed Date: 7/10/14.

Accession Number: 20140710-5118.

Comments Due: 5 p.m. ET 7/31/14.

Docket Numbers: ER14-2245-000.

Applicants: TriEagle Energy, LP.

Description: Supplement to June 23, 2014 TriEagle Energy, LP tariff filing.

Filed Date: 7/9/14.

Accession Number: 20140709-5179.

Comments Due: 5 p.m. ET 7/30/14.

Docket Numbers: ER14-2393-000.

Applicants: Macho Springs Solar, LLC.

Description: Macho Springs Amendment Filing to be effective 7/10/2014.

Filed Date: 7/9/14.

Accession Number: 20140709-5165.

Comments Due: 5 p.m. ET 7/30/14.

Docket Numbers: ER14-2394-000.

Applicants: New York State Electric & Gas Corporation.

Description: Notice of Cancellation of Facilities Agreements Rate Schedule No. 72 and 227 New York State Electric & Gas Corporation.

Filed Date: 7/9/14.

Accession Number: 20140709-5178.

Comments Due: 5 p.m. ET 7/30/14.

Docket Numbers: ER14-2395-000.

Applicants: Southwest Power Pool, Inc.

Description: 2827R1 Kansas Power Pool & Westar Meter Agent Agreement to be effective 6/1/2014.

Filed Date: 7/10/14.

Accession Number: 20140710-5032.

Comments Due: 5 p.m. ET 7/31/14.

Docket Numbers: ER14-2396-000.

Applicants: Pennsylvania Electric Company, PJM Interconnection, L.L.C.

Description: Pennsylvania Electric Company Filing of Original & Revised Svc Agrmnts to be effective 8/1/2014.

Filed Date: 7/10/14.

Accession Number: 20140710-5082.

Comments Due: 5 p.m. ET 7/31/14.

Docket Numbers: ER14-2397-000.

Applicants: Public Service Company of New Hampshire.

Description: Public Service Company of New Hampshire submits Notice of Cancellation of First Revised Service Agreement No. 93 with Essential Power Newington, LLC.

Filed Date: 7/10/14.

Accession Number: 20140710-5088.

Comments Due: 5 p.m. ET 7/31/14.

Docket Numbers: ER14-2398-000.

Applicants: PJM Interconnection, L.L.C.

Description: Request for Limited Tariff Waiver Request of PJM Interconnection, L.L.C.

Filed Date: 7/10/14.

Accession Number: 20140710-5124.

Comments Due: 5 p.m. ET 7/31/14.

Take notice that the Commission received the following public utility holding company filings:

Docket Numbers: PH14-12-000.

Applicants: The Northwestern Mutual Life Insurance Company.

Description: The Northwestern Mutual Life Insurance Company submits FERC 65-A Exemption Notification.

Filed Date: 7/10/14.

Accession Number: 20140710-5061.

Comments Due: 5 p.m. ET 7/31/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 10, 2014.
Nathaniel J. Davis, Sr.,
Deputy Secretary.

[FR Doc. 2014-16849 Filed 7-17-14; 8:45 am]

BILLING CODE 6717-01-P